Proclamation 7939 of September 30, 2005

Child Health Day, 2005

By the President of the United States of America

A Proclamation

Children are a precious gift, and we have a responsibility to help them realize a hopeful and promising future. On Child Health Day, we underscore the importance of healthy and active lifestyles for our Nation's young people, and we reaffirm our commitment to helping them use their gifts to work toward a successful future.

We have high aspirations for all our Nation's children. Parents play the central role in ensuring the health and well-being of their children and in creating a safe and nurturing environment. Schools, communities, and government leaders can support the work of parents by helping to build a society based on the fundamental values of respect, honesty, self-restraint, fairness, and compassion. We must all continue to promote a culture of responsibility in which families and communities teach young people to understand that their decisions affect their health now and in the future.

My Administration remains committed to giving parents, teachers, mentors, and communities the resources they need to help children avoid drugs, alcohol, violence, early sexual activity, and other dangerous behaviors. Through the Helping America's Youth initiative, led by First Lady Laura Bush, we are helping children to overcome the challenges they may face so they can lead healthy lives and realize their full potential.

Young people are America's future leaders, and we can all work to instill the values that sustain a free society. On this day and throughout the year, I urge our citizens to give their time and talents to benefit our Nation's youth.

The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 3, 2005, as Child Health Day. I call upon families, schools, child health professionals, faith-based and community organizations, and governments to help all our children discover the rewards of good health and wellness.

IN WITNESS WHEREOF, I have hereunto set my hand this thirtieth day of September, in the year of our Lord two thousand five, and of the Independence of the United States of America the two hundred and thirtieth.

B

[FR Doc. 05-20155

Filed 10-4-05; 9:56 am]

Billing code 3195-01-P